DEPARTMENT OF JUSTICE

Drug Enforcement Administration

[Docket No. DEA-392]

Importer of Controlled Substances Application: Cardinal Health

ACTION: Notice of application.

DATES: Registered bulk manufacturers of the affected basic classes, and applicants therefore, may file written comments on or objections to the issuance of the proposed registration on or before August 23, 2019. Such persons may also file a written request for a hearing on the application on or before August 23, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on May 31, 2019, Cardinal Health, 15 Ingram Boulevard, LaVergne, Tennessee applied to be registered as an importer of the following basic class of controlled substance:

Controlled substance | Drug code | Schedule
Secobarbital | 2315 | II

The company plans to only distribute to licensed registrants for the purpose of medical use.

Dated: July 15, 2019.
John J. Martin,
Assistant Administrator.

[FR Doc. 2019-15728 Filed 7-23-19; 8:45 am]

BILLING CODE 4410-09-P